DEPARTMENT OF TRANSPORTATION

Federal Motor Carrier Safety Administration

[Docket No. FMCSA-2013-0169]

Qualification of Drivers; Exemption Applications; Vision

AGENCY: Federal Motor Carrier Safety Administration (FMCSA), DOT.

ACTION: Notice of applications for exemptions; request for comments.

SUMMARY: FMCSA announces receipt of applications from 48 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 27, 2013.

ADDRESSES: You may submit comments bearing the Federal Docket Management System (FDMS) Docket No. FMCSA-2013-0169 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 48 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Lawrence A. Angle

Mr. Angle, age 49, has complete loss of vision in his left eye due to a traumatic incident in 1986. The visual acuity in his right eye is 20/20, and in his left eye, no light perception. Following an examination in 2013, his optometrist noted, “In my opinion, Mr. Angle has sufficient vision to perform the driving tasks required to operate a commercial vehicle.” Mr. Angle reported that he has driven straight trucks for 8 years, accumulating 400,000 miles, and tractor-trailer combinations for 27 years, accumulating 2.8 million miles. He holds a Class A Commercial Driver's License (CDL) from Missouri. His driving record for the last 3 years shows no crashes and no convictions for moving violations in a CMV.

Alois K. Asche

Mr. Asche, 57, has had acquired anophthalmos in his right eye since 1999. The visual acuity in his right eye is no light perception, and in his left eye, 20/15. Following an examination in 2013, his ophthalmologist noted, “It is my medical opinion, Mr. Asche does have sufficient vision to perform the driving tasks required to operate a commercial vehicle.” Mr. Asche reported that he has driven straight trucks for 39 years, accumulating 312,000 miles, and tractor-trailer combinations for 35 years, accumulating 140,000 miles. He holds a Class A CDL from Indiana. His driving record for the last 3 years shows no crashes and no convictions for moving violations in a CMV.

John P. Bails

Mr. Bails, 70, has had amblyopia in his left eye since birth. The visual acuity in his right eye is 20/20, and in his left eye, 20/400. Following an examination in 2013, his optometrist noted, “I certify that, in my medical opinion, this patient has sufficient vision to operate a commercial motor vehicle.” Mr. Bails reported that he has driven straight trucks for 10 years, accumulating 500,000 miles, and tractor-trailer combinations for 8 years, accumulating 400,000 miles. He holds an operator's license from Iowa. His driving record for the last 3 years shows no crashes and no convictions for moving violations in a CMV.

Craig J. Belles

Mr. Belles, 48, has had anisometropic amblyopia in his left eye since birth. The visual acuity in his right eye is 20/20, and in his left eye, 20/70. Following an examination in 2013, his optometrist noted, “In my medical opinion, Mr. Belles definitely has sufficient vision to perform the driving tasks required to operate a commercial vehicle.” Mr. Belles reported that he has driven straight trucks for 14 years, accumulating 94,500 miles. He holds an operator's license from New York. His driving record for the last 3 years shows no crashes and no convictions for moving violations in a CMV.

John E. Bellosi, Jr.

Mr. Bellosi, 48, has had amblyopia in his left eye since childhood. The visual acuity in his right eye is 20/20, and in his left eye, 20/60. Following an examination in 2013, his optometrist noted, “Mr. Bellosi has amblyopia in his left eye and that's why the vision is 20/60 corrected. His vision is stable and in my professional opinion he can safely perform driving tasks required to operate a commercial vehicle.” Mr. Bellosi reported that he has driven straight trucks for 28 years, accumulating 560,000 miles. He holds an operator's license from Maryland. His driving record for the last 3 years shows no crashes and no convictions for moving violations in a CMV.

Thomas A. Black

Mr. Black, 40, has had amblyopia in his left eye since childhood. The visual acuity in his right eye is 20/20, and in his left eye, 20/400. Following an examination in 2013, his optometrist noted, “In my medical opinion, Mr. Black has demonstrated his ability to do his job well even with his visual issues. Despite his longstanding visual deficit in his left eye, he has likely compensated well throughout his lifetime and should be considered to retain his commercial vehicle license.” Mr. Black reported that he has driven straight trucks for 8 years, accumulating 32,000 miles. He holds a Class B CDL from Missouri. His driving record for the last 3 years shows no crashes and no convictions for moving violations in a CMV.

Eugene R. Briggs

Mr. Briggs, 49, has penetration trauma from a foreign object in his left eye due to a traumatic incident in 1982. The visual acuity in his right eye is 20/20, and in his left eye, 20/200. Following an examination in 2013, his optometrist noted, “Has sufficient vision to operate a commercial vehicle.” Mr. Briggs reported that he has driven straight trucks for 6 years, accumulating 216,000 miles. He holds a chauffeur's license from Michigan. His driving record for the last 3 years shows no crashes and one conviction for a moving violation in a CMV; he disobeyed a traffic signal.

Matthew S. Burns

Mr. Burns, 41, has had refractive amblyopia in his right eye since birth. The visual acuity in his right eye is hand motion, and in his left eye, 20/20. Following an examination in 2013, his optometrist noted, “In my opinion, Matthew has sufficient vision to perform the driving tasks required to operate a commercial vehicle.” Mr. Burns reported that he has driven straight trucks for 10 years, accumulating 40,000 miles. He holds a Class B CDL from Ohio. His driving record for the last 3 years shows no crashes and no convictions for moving violations in a CMV.

Ryan J. Burnworth

Mr. Burnworth, 35, has complete loss of vision in his right eye due to a traumatic incident in 1980. The visual acuity in his right eye is counting fingers, and in his left eye, 20/20. Following an examination in 2013, his optometrist noted that Mr. Burnworth does not have any visual defects or field loss that would affect the safe operation of a commercial motor vehicle. Mr. Burnworth reported that he has driven straight trucks for 15 years, accumulating 312,000 miles. He holds an operator's license from Missouri. His driving record for the last 3 years shows no crashes and no convictions for moving violations in a CMV.

Dennis W. Burrage II

Mr. Burrage, 41, has had enucleation in his right eye since 2005. The visual acuity in his right eye is no light perception, and in his left eye, 20/20. Following an examination in 2013, his optometrist noted that Mr. Burrage does not have any visual defects or field loss that would affect the safe operation of a commercial vehicle.

Mr. Burrage reported that he has driven straight trucks for 1 year, accumulating 14,000 miles, and tractor-trailer combinations for 3.5 years, accumulating 336,000. He holds a Class A CDL from Oregon. His driving record for the last 3 years shows no crashes and no convictions for moving violations in a CMV.

Freddie A. Carrasquillo

Mr. Carrasquillo, 45, has had amblyopia in his right eye since birth. The visual acuity in his right eye is 20/60, and in his left eye, 20/20. Following an examination in 2013, his optometrist noted, “It is my opinion that Mr. Carrasquillo has sufficient vision to perform the driving tasks required to operate a commercial vehicle.” Mr. Carrasquillo reported that he has driven straight trucks for 17 years, accumulating 187,850 miles, and tractor-trailer combinations for 7 years, accumulating 31,850. He holds a Class A CDL from Texas. His driving record for the last 3 years shows no crashes and no convictions for moving violations in a CMV.

Luis Castelleon-Berrios

Mr. Castelleon-Berrios, 29, has had complete loss of vision in his right eye since childhood. The visual acuity in his right eye is no light perception, and in his left eye, 20/20. Following an examination in 2013, his ophthalmologist noted that, in her medical opinion, Mr. Castelleon-Berrios does have sufficient vision to operate a commercial motor vehicle. Mr. Castelleon-Berrios reported that he has driven straight trucks for 3 years, accumulating 1.2 million miles. He holds an operator's license from New York. His driving record for the last 3 years shows no crashes and two convictions for moving violations in a CMV; both times he violated the truck route restrictions.

Michael D. Champion

Mr. Champion, 31, has had amblyopia in his right eye since childhood. The visual acuity in his right eye is 20/80, and in his left eye, 20/15. Following an examination in 2013, his optometrist noted, “His vision is sufficient to safely operate a commercial vehicle.” Mr. Champion reported that he has driven straight trucks for 6 years, accumulating 150,000 miles. He holds an operator's license from Vermont. His driving record for the last 3 years shows no crashes and no convictions for moving violations in a CMV.

Kevin J. Cobb

Mr. Cobb, 55, has complete loss of vision in his left eye due to a traumatic incident during childhood. The visual acuity in his right eye is 20/20, and in his left eye, light perception. Following an examination in 2013, his optometrist noted, “Based on these findings and stability of Kevin's visual status, I feel he has sufficient vision at this time to operate a commercial vehicle for agricultural use.” Mr. Cobb reported that he has driven straight trucks for 39 years, accumulating 390,000 miles, and tractor-trailer combinations for 39 years, accumulating 312,000 miles. He holds a Class A CDL from Pennsylvania. His driving record for the last 3 years shows no crashes and no convictions for moving violations in a CMV.

Walter F. Crean III

Mr. Crean, 50, has had exotropia in his left eye since 2008. The visual acuity in his right eye is 20/20, and in his left eye, counting fingers. Following an examination in 2013, his ophthalmologist noted, “This patient has sufficient vision to perform the driving tasks required to operate a commercial vehicle.” Mr. Crean reported that he has driven straight trucks for 5 years, accumulating 250,000 miles, and tractor-trailer combinations for 24 years, accumulating 2.5 million miles. He holds a Class A CDL from Connecticut. His driving record for the last 3 years shows no crashes and no convictions for moving violations in a CMV.

Lee A. DeHaan

Mr. DeHaan, 47, has a prosthetic right eye due to a traumatic incident in 2003. The visual acuity in his right eye is no light perception, and in his left eye, 20/15. Following an examination in 2013, his optometrist noted, “It is my medical opinion that Mr. DeHaan has sufficient vision to perform the driving tasks required to operate a commercial vehicle.” Mr. DeHaan reported that he has driven tractor-trailer combinations for 25 years, accumulating 2.5 million miles. He holds a Class A3 CDL from South Dakota. His driving record for the last 3 years shows no crashes and no convictions for moving violations in a CMV.

Vincent DeMedici

Mr. DeMedici, 60, has had complete loss of vision in his right eye since birth. The visual acuity in his right eye is no light perception, and in his left eye, 20/10. Following an examination in 2013, his optometrist noted, “It is my opinion that Mr. DeMedici has sufficient vision to continue to perform the driving tasks required to operate a commercial vehicle.” Mr. DeMedici reported that he has driven straight trucks for 15 years, accumulating 750,000 miles, and tractor-trailer combinations for 43 years, accumulating 4.3 million miles. He holds a Class AM CDL from Pennsylvania. His driving record for the last 3 years shows no crashes and no convictions for moving violations in a CMV.

Bradley R. Dishman

Mr. Dishman, 62, has had a corneal scar in his left eye since 1996. The visual acuity in his right eye is 20/20, and in his left eye, 20/200. Following an examination in 2013, his optometrist noted, “It is my opinion that Mr. Dishman has sufficient vision to perform the driving tasks required to operate a commercial vehicle.” Mr. Dishman reported that he has driven straight trucks for 30 years, accumulating 180,000 miles. He holds a Class B CDL from Kentucky. His driving record for the last 3 years shows no crashes and no convictions for moving violations in a CMV.

Christopher T. Faber

Mr. Faber, 46, has a prosthetic left eye due to a traumatic incident during childhood. The visual acuity in his right eye is 20/20, and in his left eye, no light perception. Following an examination in 2013, his optometrist noted that Mr. Faber does not have any visual defects or field loss that would affect the safe operation of a commercial motor vehicle. Mr. Faber reported that he has driven straight trucks for 7 years, accumulating 49,140 miles. He holds an operator's license from Florida. His driving record for the last 3 years shows no crashes and no convictions for moving violations in a CMV.

Frederick E. Foster

Mr. Foster, 69, has had amblyopia in his right eye since childhood. The visual acuity in his right eye is 20/400, and in his left eye, 20/20. Following an examination in 2013, his optometrist noted, “I am of the opinion that this patient has sufficient vision to operate a commercial vehicle.” Mr. Foster reported that he has driven straight trucks for 10 years, accumulating 300,000 miles. He holds an operator's license from Virginia. His driving record for the last 3 years shows no crashes and no convictions for moving violations in a CMV.

Gregory K. Frazier

Mr. Frazier, 52, has retinal damage in his left eye due to a traumatic incident during childhood. The visual acuity in his right eye is 20/20, and in his left eye, counting fingers. Following an examination in 2013, his ophthalmologist noted, “With his visual field testing done today and his previous information in regards to his right eye, Mr. Frazier has sufficient vision to meet the regulations and exemption rule for operating a commercial vehicle.” Mr. Frazier reported that he has driven straight trucks for 2 years, accumulating 80,000 miles, and tractor-trailer combinations for 15 years, accumulating 1.5 million miles. He holds a Class A CDL from Georgia. His driving record for the last 3 years shows no crashes and no convictions for moving violations in a CMV.

John E. Gannon, Jr.

Mr. Gannon, 63, has had amblyopia in his left eye since childhood. The visual acuity in his right eye is 20/20, and in his left eye, 20/100. Following an examination in 2013, his optometrist noted, “In my medical opinion, Mr. Gannon has sufficient vision to perform the driving tasks necessary for a commercial vehicle.” Mr. Gannon reported that he has driven straight trucks for 7 years, accumulating 126,000 miles, and tractor-trailer combinations for 1 year, accumulating 39,000 miles. He holds a Class A CDL from Nevada. His driving record for the last 3 years shows no crashes and no convictions for moving violations in a CMV.

Thomas G. Gholston

Mr. Gholston, 41, has a macular scar in his left eye due to a traumatic incident during childhood. The visual acuity in his right eye is 20/20, and in his left eye, 20/200. Following an examination in 2013, his optometrist noted, “I certify that in my professional opinion, Mr. Gholston has sufficient vision to safely perform the driving tasks required to operate a commercial vehicle.” Mr. Gholston reported that he has driven straight trucks for 18.75 years, accumulating 468,750 miles. He holds a Class B CDL from Mississippi. His driving record for the last 3 years shows no crashes and no convictions for moving violations in a CMV.

Thomas J. Grant

Mr. Grant, 36, has had refractive amblyopia in his left eye since childhood. The visual acuity in his right eye is 20/20, and in his left eye, 20/200. Following an examination in 2013, his optometrist noted that Mr. Grant does not require a periodic vision evaluation to monitor changes that may affect driving and that the department does not need to request a statement of Mr. Grant's medical/physical condition that may affect his ability to safely operate a commercial motor vehicle. Mr. Grant reported that he has driven straight trucks for 1 month, accumulating 200 miles, and tractor-trailer combinations for 11 years, accumulating 820,600 miles. He holds a Class CA CDL from Michigan. His driving record for the last 3 years shows no crashes and no convictions for moving violations in a CMV.

Donald Latozke

Mr. Latozke, 59, has had amblyopia in his right eye since birth. The visual acuity in his right eye is 20/80, and in his left eye, 20/20. Following an examination in 2012, his optometrist noted that Mr. Latozke does not have any visual defects or field loss that would affect the safe operation of a commercial motor vehicle. Mr. Latozke reported that he has driven straight trucks for 50 years, accumulating 250,000 miles, tractor-trailer combinations for 1 year, accumulating 500 miles, and buses for 12 years, accumulating 1,200 miles. He holds an operator's license from North Dakota. His driving record for the last 3 years shows no crashes and no convictions for moving violations in a CMV.

Michael R. Leftwich

Mr. Leftwich, 57, has had anisometropic amblyopia in his right eye since childhood. The visual acuity in his right eye is 20/60, and in his left eye, 20/20. Following an examination in 2013, his ophthalmologist noted, “In my opinion he has sufficient vision to perform the driving tasks to operate a commercial vehicle.” Mr. Leftwich reported that he has driven straight trucks for 28 years, accumulating 145,600 miles. He holds a Class A CDL from Georgia. His driving record for the last 3 years shows no crashes and no convictions for moving violations in a CMV.

Luther D. Long

Mr. Long, 68, has had corneal scarring in his right eye since 2010. The visual acuity in his right eye is 20/200, and in his left eye, 20/20. Following an examination in 2013, his optometrist noted that, in his opinion, Mr. Long does have sufficient vision to operate a commercial motor vehicle safely. Mr. Long reported that he has driven tractor-trailer combinations for 35 years, accumulating 2.63 million miles. He holds a Class A CDL from Georgia. His driving record for the last 3 years shows no crashes and no convictions for moving violations in a CMV.

George Malivuk

Mr. Malivuk, 56, has had amblyopia in his left eye since childhood. The visual acuity in his right eye is 20/20, and in his left eye, counting fingers. Following an examination in 2013, his optometrist noted, “In my opinion Mr. Malivuk has sufficient vision to safely drive a commercial vehicle.” Mr. Malivuk reported that he has driven straight trucks for 17 years, accumulating 170,000 miles, and tractor-trailer combinations for 1 year, accumulating 1,000 miles. He holds a Class ABCDM CDL from Wisconsin. His driving record for the last 3 years shows one crash, for which he was not cited, and no moving violations in a CMV.

Humberto Mendoza

Mr. Mendoza, 50, has corneal scarring in his right eye due to a traumatic incident during childhood. The visual acuity in his right eye is 20/60, and in his left eye, 20/20. Following an examination in 2013, his ophthalmologist noted, “My medical opinion is that the patient possesses sufficient vision to perform driving tasks required to operate a commercial vehicle.” Mr. Mendoza reported that he has driven straight trucks for 10 years, accumulating 93,000 miles. He holds a Class B CDL from Texas. His driving record for the last 3 years shows no crashes and no convictions for moving violations in a CMV.

Chad A. Miller

Mr. Miller, 42, has had refractive amblyopia in his right eye since childhood. The visual acuity in his right eye is 20/80, and in his left eye, 20/16. Following an examination in 2013, his optometrist noted, “Based on these findings, I feel Chad A. Miller has the visual abilities to operate a commercial motor vehicle in interstate commerce because the visual loss in his right eye occurred in shortly after birth and has been stable since that time.” Mr. Miller reported that he has driven straight trucks for 18 years, accumulating 72,000 miles, and tractor-trailer combinations for 3 years, accumulating 2,400 miles. He holds an operator's license from Iowa. His driving record for the last 3 years shows no crashes and no convictions for moving violations in a CMV.

Calvin Nesbitt

Mr. Nesbitt, 60, has a prosthetic left eye due to a traumatic incident in 1988. The visual acuity in his right eye is 20/20, and in his left eye, no light perception. Following an examination in 2013, his optometrist noted, “In my opinion Mr. Nesbitt has sufficient vision to perform the driving tasks required to operate a commercial vehicle.”

Mr. Nesbitt reported that he has driven tractor-trailer combinations for 40 years, accumulating 4 million miles. He holds a Class A CDL from Georgia. His driving record for the last 3 years shows no crashes and no convictions for moving violations in a CMV.

Vincent R. Neville

Mr. Neville, 43, has had esotropia in his left eye since childhood. The visual acuity in his right eye is 20/20, and in his left eye, 20/60. Following an examination in 2013, his optometrist noted, “In my opinion, Vince can safely perform the driving tasks required to operate a commercial motor vehicle.” Mr. Neville reported that he has driven straight trucks for 12 years, accumulating 132,000 miles, and tractor-trailer combinations for 7 years, accumulating 17,500 miles. He holds a Class A CDL from Minnesota. His driving record for the last 3 years shows no crashes and no convictions for moving violations in a CMV.

William L. Paschall

Mr. Paschall, 57, has a prosthetic right eye due to a traumatic incident during childhood. The visual acuity in his right eye is no light perception, and in his left eye, 20/20. Following an examination in 2013, his optometrist noted, “In my opinion, he meets the vision requirements to drive a commercial vehicle without spectacle correction.” Mr. Paschall reported that he has driven straight trucks for 8 years, accumulating 800,000 miles. He holds an operator's license from Maryland. His driving record for the last 3 years shows no crashes and no convictions for moving violations in a CMV.

Emiterio M. Pena

Mr. Pena, 71, has had a macular hole in his left eye since 2009. The visual acuity in his right eye is 20/20, and in his left eye, 20/200. Following an examination in 2013, his ophthalmologist noted, “In my medical opinion Mr. Pena has sufficient vision to perform the driving tasks required to operate a commercial vehicle.” Mr. Pena reported that he has driven buses for 28 years, accumulating 604,800 miles. He holds an operator's license from New Mexico. His driving record for the last 3 years shows no crashes and no convictions for moving violations in a CMV.

Daniel F. Perez

Mr. Perez, 29, has had amblyopia in his left eye since childhood. The visual acuity in his right eye is 20/20, and in his left eye, 20/200. Following an examination in 2013, his optometrist noted, “Based upon his [sic] findings and history of commercial truck driving, I find him in my professional opinion to have sufficient vision to perform the driving tasks required to operate a commercial vehicle.” Mr. Perez reported that he has driven tractor-trailer combinations for 9 years, accumulating 936,000 miles. He holds a Class A CDL from California. His driving record for the last 3 years shows no crashes and no convictions for moving violations in a CMV.

Kerry R. Powers

Mr. Powers, 45, has a prosthetic left eye due to a traumatic incident in 1993. The visual acuity in his right eye is 20/15, and in his left eye, no light perception. Following an examination in 2013, his ophthalmologist noted, “In conclusion, in my medical opinion, he certainly has sufficient vision to perform the driving tasks required to operate a commercial vehicle.” Mr. Powers reported that he has driven straight trucks for 2 years, accumulating 48,000 miles, and tractor-trailer combinations for 8 years, accumulating 1 million miles. He holds a Class A CDL from Indiana. His driving record for the last 3 years shows no crashes and one conviction for a moving violation in a CMV; he exceeded the speed limit by 7 mph.

Jonathan Pryor

Mr. Pryor, 30, has had enucleation in his right eye since childhood. The visual acuity in his right eye is no light perception, and in his left eye, 20/20. Following an examination in 2013, his optometrist noted, “Mr. Pryor has been driving a motor vehicle for several years now and for this reason as well as the good vision acuity and normal fields in his left eye, I am of the opinion that he has sufficient vision to operate a commercial vehicle.” Mr. Pryor reported that he has driven straight trucks for 7 years, accumulating 21,000 miles. He holds an operator's license from Oklahoma. His driving record for the last 3 years shows no crashes and no convictions for moving violations in a CMV.

Nick A. Reed

Mr. Reed, 46, has had amblyopia in his left eye since birth. The visual acuity in his right eye is 20/20, and in his left eye, 20/200. Following an examination in 2013, his optometrist noted that Mr. Reed does not have any visual defects or field loss that would affect the safe operation of a commercial motor vehicle. Mr. Reed reported that he has driven straight trucks for 9 years, accumulating 5,400 miles, and tractor-trailer combinations for 4 years, accumulating 2,080 miles. He holds a Class A CDL from Ohio. His driving record for the last 3 years shows no crashes and no convictions for moving violations in a CMV.

Joe W. Restine

Mr. Restine, 50, has complete loss of vision in his left eye due to a traumatic incident in 1981. The visual acuity in his right eye is 20/20, and in his left eye, no light perception. Following an examination in 2013, his optometrist noted, “I, Jeremy King, O.D., certify that in my medical opinion, Joe Restine, has sufficient vision to perform the driving tasks required to operate a commercial vehicle.” Mr. Restine reported that he has driven straight trucks for 32 years, accumulating 800,000 miles, and tractor-trailer combinations for 32 years, accumulating 160,000 miles. He holds an operator's license from Oklahoma. His driving record for the last 3 years shows no crashes and no convictions for moving violations in a CMV.

Noel S. Robbins

Mr. Robbins, 57, has a macular scar in his right eye due to a traumatic incident in 1973. The visual acuity in his right eye is 20/200, and in his left eye, 20/20. Following an examination in 2013, his optometrist noted, “Patients chart is submitted for your approval but has passed all said requirements that were found on Web site and feel thus passing said requirements he has sufficient vision to perform tasks required for cdl [sic].” Mr. Robbins reported that he has driven straight trucks for 30 years, accumulating 30,000 miles, and tractor-trailer combinations for 5 years, accumulating 4,500 miles. He holds a Class AM CDL from Pennsylvania. His driving record for the last 3 years shows no crashes and no convictions for moving violations in a CMV.

Steven T. Ross

Mr. Ross, 58, has visual acuity loss in his right eye due to a traumatic incident during childhood. The visual acuity in his right eye is counting fingers, and in his left eye, 20/20. Following an examination in 2012, his optometrist noted, “I certify that, in my medical opinion, this patient has sufficient vision to operate a commercial motor vehicle.” Mr. Ross reported that he has driven tractor-trailer combinations for 40 years, accumulating 3.12 million miles. He holds an operator's license from Mississippi. His driving record for the last 3 years shows no crashes and no convictions for moving violations in a CMV.

Charles E. Schmitz

Mr. Schmitz, 52, has had amblyopia in his right eye since birth. The visual acuity in his right eye is 20/200, and in his left eye, 20/20. Following an examination in 2013, his ophthalmologist noted, “[Mr. Schmitz] has driven large farm equipment more than 30 years. In 2006 he received his commercial driver's license from the state of Missouri with passenger and school bus endorsements. He has driven a school bus for 7 years without incident. He has not had an accident in 36 years of civilian driving. Despite his history of amblyopia of the right eye, Mr. Schmitz has exhibited excellent ability to drive motorized vehicles in numerous and varied scenarios.” Mr. Schmitz reported that he has driven straight trucks for 36 years, accumulating 18,000 miles, and buses for 7 years, accumulating 19,250 miles. He holds a Class B CDL from Missouri. His driving record for the last 3 years shows no crashes and no convictions for moving violations in a CMV.

Raymond C. Schultz

Mr. Schultz, 63, has had refractive amblyopia in his right eye since childhood. The visual acuity in his right eye is 20/50, and in his left eye, 20/15. Following an examination in 2013, his optometrist noted, “In my medical opinion, Raymond has sufficient vision to perform the driving tasks required to operate a commercial vehicle.” Mr. Schultz reported that he has driven tractor-trailer combinations for 34 years, accumulating 2.72 million miles. He holds a Class A CDL from Ohio. His driving record for the last 3 years shows no crashes and no convictions for moving violations in a CMV.

James A. Shepard

Mr. Shepard, 58, has had a cataract in his right eye since birth. The visual acuity in his right eye is light perception, and in his left eye, 20/20. Following an examination in 2013, his ophthalmologist noted, “I feel that his vision is stable at this point and do not believe that his vision disability would interfere with his performing driving tasks required to operate a commercial vehicle.” Mr. Shepard reported that he has driven straight trucks for 27 years, accumulating 1.68 million miles, and tractor-trailer combinations for 31 years, accumulating 751,166 miles. He holds a Class AM CDL from New York. His driving record for the last 3 years shows one crash, for which he was not cited, and no convictions for moving violations in a CMV.

Timothy R. Steckman

Mr. Steckman, 51, has had chronic angle closure glaucoma in his right eye since 2001. The visual acuity in his right eye is no light perception, and in his left eye, 20/20. Following an examination in 2013, his ophthalmologist noted, “In my opinion . . . I believe he has sufficient vision to perform the driving tasks required to operate a commercial vehicle.” Mr. Steckman reported that he has driven tractor-trailer combinations for 20 years, accumulating 600,000 miles. He holds an operator's license from Illinois. His driving record for the last 3 years shows no crashes and no convictions for moving violations in a CMV.

Mark P. Thiboutot

Mr. Thiboutot, 56, has had central retinal artery occlusion in his right eye since 2008. The visual acuity in his right eye is 20/200, and in his left eye, 20/20. Following an examination in 2013, his ophthalmologist noted, “Pt [sic] needs to obtain a driving waiver . . . Pt [sic] . . . had central retinal artery occlusion . . . Pt [sic] has been driving a commercial vehicle since 2008. Has drove [sic] thousands of miles without any accidents.” Mr. Thiboutot reported that he has driven straight trucks for 15 years, accumulating 55,500 miles, and tractor-trailer combinations for 20 years, accumulating 1.4 million miles. He holds a Class A CDL from New Hampshire. His driving record for the last 3 years shows no crashes and no convictions for moving violations in a CMV.

Herman D. Truewell

Mr. Truewell, 55, had an idiopathic ischemic event in his right eye sometime between April 2009 and December 2011. The visual acuity in his right eye is 20/80, and in his left eye, 20/20. Following an examination in 2013, his optometrist noted, “The stability of Mr. Truewell's vision and his years of experience as a safe commercial driver, indicate that he should be granted a vision exception that will allow him to continue to practice as a commercial driver.” Mr. Truewell reported that he has driven straight trucks for 15 years, accumulating 7,500 miles, and tractor-trailer combinations for 4 years, accumulating 80,000 miles, and buses for 3 years, accumulating 15,000 miles. He holds a Class A CDL from Florida. His driving record for the last 3 years shows no crashes and no convictions for moving violations in a CMV.

Jason M. Wolf

Mr. Wolf, 36, has had amblyopia in his right eye since childhood. The visual acuity in his right eye is 20/200, and in his left eye, 20/20. Following an examination in 2013, his ophthalmologist noted, “As Mr. Wolf is accustomed to not wearing glasses and finds that wearing the [sic] astigmatic and correction on both eyes causes him tolerable distortion, I believe that he has sufficient vision to perform a driving test required to operate a commercial vehicle without correction.” Mr. Wolf reported that he has driven straight trucks for 17 years, accumulating 170,000 miles. He holds an operator's license from Colorado. His driving record for the last 3 years shows no crashes and no convictions for moving violations in a CMV.

Request for Comments

In accordance with 49 U.S.C. 31136(e) and 31315, FMCSA requests public comment from all interested persons on the exemption petitions described in this notice. The Agency will consider all comments received before the close of business November 27, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2013-0169 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2013-0169 and click “Search.” Next, click “Open Docket Folder” and you will find all documents and comments related to the proposed rulemaking.

Issued on: October 16, 2013.
Larry W. Minor,
Associate Administrator for Policy.

[FR Doc. 2013-25377 Filed 10-25-13; 8:45 am]

BILLING CODE 4910-EX-P